DEPARTMENT OF LABOR

Employment and Training Administration

Determinations Regarding Eligibility To Apply for Trade Adjustment Assistance

In accordance with Sections 223 and 284 (19 U.S.C. 2273 and 2395) of the Trade Act of 1974 (19 U.S.C. 2271, et seq.) (“Act”), as amended, the Department of Labor herein presents summaries of determinations regarding eligibility to apply for trade adjustment assistance under Chapter 2 of the Act (“TAA”) for workers by (TA-W) issued during the period of January 1, 2022 through January 31, 2022.

This notice includes summaries of initial determinations such as Affirmative Determinations of Eligibility, Negative Determinations of Eligibility, and Determinations Terminating Investigations of Eligibility within the period. If issued in the period, this notice also includes summaries of post-initial determinations that modify or amend initial determinations such as Affirmative Determinations Regarding Applications for Reconsideration, Negative Determinations Regarding Applications for Reconsideration, Revised Certifications of Eligibility, Revised Determinations on Reconsideration, Negative Determinations on Reconsideration, Revised Determinations on remand from the Court of International Trade, and Negative Determinations on remand from the Court of International Trade.

Affirmative Determinations for Trade Adjustment Assistance

The following certifications have been issued.

TA-W No. | Subject firm | Location | Reason(s)
96,783 | Camcar LLC | Rochester, IN | Customer Imports of Articles.
96,936 | North Texas PPE, LLC | Frisco, TX | Increased Aggregate Imports.
96,948 | Nabors Drilling Technologies USA, INC | Williston, ND | Increased Aggregate Imports.
96,951 | PremiumEstore LLC | Virginia Beach, VA | Increased Aggregate Imports.
96,957 | Protective Health Gear | Paterson, NJ | Increased Aggregate Imports.
98,011 | Terumo Blood and Cell Technologies | Lakewood, CO | Shift in Production to an FTA Country or Beneficiary.
98,011A | Terumo Blood and Cell Technologies | Lakewood, CO | Shift in Production to an FTA Country or Beneficiary.
98,053 | Amphenol Spectra-Strip | Hamden, CT | Increased Customer Imports.
98,062 | Carlisle Interconnect Technologies | Kent, WA | Shift in Production to an FTA Country or Beneficiary.
98,065 | Mondelez Global LLC Fair Lawn Bakery | Fair Lawn, NJ | Increased Customer Imports.
98,079 | Showa Best Glove Inc | Menlo, GA | Shift in Production to an FTA Country or Beneficiary.
98,080 | Scema LLC | Mason City, IA | Actual/Likely Increase in Imports following a Shift Abroad.
98,089 | Kemper Valve & Fittings Corp., Oil, Gas and Marine Division | Island Lake, IL | Increased Customer Imports.
98,092 | Luminant Power LLC, Zimmer Power Plant | Moscow, OH | Increased Customer Imports.
98,109 | FDP Virginia, Inc | Tappahannock, VA | Increased Company Imports.
98,110 | TE Connectivity | Norwood, MA | Shift in Production to an FTA Country or Beneficiary.
98,114 | Kellogg USA, LLC | Battle Creek, MI | Shift in Production to an FTA Country or Beneficiary.
98,120 | Conesys | Torrance, CA | Shift in Production to an FTA Country or Beneficiary.
98,121 | Borg Warner, Transmission Products LLC Division | Frankfort, IL | Shift in Production to an FTA Country or Beneficiary.
98,132 | Marelli North Carolina USA, LLC | Sanford, NC | Shift in Production to an FTA Country or Beneficiary.
98,140 | Kauffman Engineering | Lawrenceville, IL | Shift in Production to an FTA Country or Beneficiary.
98,141 | Kauffman Engineering | Lebanon, IN | Shift in Production to an FTA Country or Beneficiary.
98,145 | El Paso Times | El Paso, TX | Shift in Production to an FTA Country or Beneficiary.
98,154 | Apical Industries dba DART Aerospace LTD | Vista, CA | Shift in Production to an FTA Country or Beneficiary.

Negative Determinations for Trade Adjustment Assistance

The following investigations revealed that the eligibility criteria for TAA have not been met for the reason(s) specified.

TA-W No. | Subject firm | Location | Reason(s)
96,784 | Delta Galil Industries | Williamsport, PA | No Shift in Services or Other Basis.
98,015 | Ensono, LLC | Conway, AR | Workers Do Not Produce an Article.
98,016 | Web Industries, Inc CAD Cut Division | Middlesex, VT | No Import Increase and/or Production Shift Abroad.
98,020 | AGCO LLC | Omaha, NE | No Import Increase and/or Production Shift Abroad.
98,029 | RealPage, Inc | Richardson, TX | Workers Do Not Produce an Article.
98,064 | Columbia Sportswear Company | Portland, OR | Workers Do Not Produce an Article.
98,073 | Liberty Mutual Insurance Company | Portland, OR | Workers Do Not Produce an Article.
98,077 | Melissa & Doug, LLC | Wilton, CT | No Sales or Production Decline/Shift in Production (Domestic Transfer).
98,086 | PGI, Inc | Colorado Springs, CO | Workers Do Not Produce an Article.
98,087 | PerkinElmer Health Sciences, Inc | Shelton, CT | Predominant Cause of Layoffs Unrelated to Imports, Shift in Production to Beneficiary Country, or Increase in Imports Following a Shift.
98,097 | Verizon Business Network Services Inc | Irving, TX | Workers Do Not Produce an Article.
98,098 | Micron Technology, Inc | Meridian, ID | Workers Do Not Produce an Article.
98,113 | Citibank, N.A | Sioux Falls, SD | Workers Do Not Produce an Article.
98,116 | Ascenda USA Inc., d/b/a 24-7 Intouch | Aurora, CO | Workers Do Not Produce an Article.
98,126 | N26 Inc | New York, NY | Workers Do Not Produce an Article.
98,130 | WSP USA Inc | Ephrata, PA | Workers Do Not Produce an Article.
98,131 | Flabeg Technical Glass | Naugatuck, CT | No Import Increase and/or Production Shift Abroad.
98,134 | Acco Brands USA LLC | Ogdensburg, NY | Workers Do Not Produce an Article.
98,137 | Meridian Medical Management | Windsor, CT | Workers Do Not Produce an Article.
98,139 | General Motors Toledo Transmission | Toledo, OH | No Sales or Production Decline/Shift in Production (Domestic Transfer).
98,146 | Experis US Inc | Winston-Salem, NC | Workers Do Not Produce an Article.

Determinations Terminating Investigations for Trade Adjustment Assistance

The following investigations were terminated for the reason(s) specified.

TA-W No. | Subject firm | Location | Reason(s)
98,068 | Poly | Austin, TX | Invalid Petition.
98,082 | US Well Services | Pleasanton, TX | Ongoing Investigation in Process.
98,082A | US Well Services | San Angelo, TX | Ongoing Investigation in Process.
98,083 | US Well Services | Pleasanton, TX | Ongoing Investigation in Process.
98,083A | US Well Services | San Angelo, TX | Ongoing Investigation in Process.
98,111 | Medtronic PLC | Warsaw, IN | Existing Certification in Effect.
98,115 | Rogue Truck Body | Kerby, OR | Petitioner Requests Withdrawal.
98,118 | Setterstix Corporation | Cattaraugus, NY | Petitioner Requests Withdrawal.
98,135 | General Motors Components Holdings, LLC | Rochester, NY | Petitioner Requests Withdrawal.

Revised Certifications of Eligibility

The following revised certifications of eligibility to apply for TAA have been issued.

TA-W No. | Subject firm | Location | Reason(s)
97,112 | rPlanet Earth Los Angeles LLC | Vernon, CA | Worker Group Clarification.

I hereby certify that the aforementioned determinations were issued during the period of January 1, 2022 through January 31, 2022. These determinations are available on the Department's website https://www.dol.gov/agencies/eta/tradeact under the searchable listing determinations or by calling the Office of Trade Adjustment Assistance toll free at 888-365-6822.

Signed at Washington, DC, this 4th day of February 2022.
Hope D. Kinglock,
Certifying Officer, Office of Trade Adjustment Assistance.

[FR Doc. 2022-04713 Filed 3-4-22; 8:45 am]

BILLING CODE 4510-FN-P